ENVIRONMENTAL PROTECTION AGENCY

40 CFR Chapter I

[Docket EPA-HQ-OW-2011-0119; FRL-9275-4]

Stakeholder Input: Listening Session to Provide Information and Solicit Suggestions for Regulations Forthcoming Under the Clean Water Act

AGENCY: Environmental Protection Agency (EPA).

ACTION: Notice of listening sessions.

SUMMARY: The EPA is today announcing plans to hold “listening sessions” on March 18 and April 29, 2011, to provide information about the Clean Boating Act (CBA), and to gather recommendations from the public for forthcoming regulation of recreational vessels under the Clean Water Act (CWA) Section 312(o). The listening sessions will be held in Annapolis, MD. EPA may hold additional listening sessions in other locations if there is sufficient interest. The CBA, which was passed by Congress and signed into law in 2008, directs EPA to promulgate regulations to establish management practices and associated standards of performance for discharges incidental to the normal operation of recreational vessels (e.g., bilgewater, ballast water, and graywater). Because these regulations will affect the owners and operators of approximately 17 million recreational vessels, EPA seeks to inform the general public and regulated community of its plans for development of the regulations, and to hear the views of the general public, the recreational boating community, State agencies, and other interested stakeholders.

DATES: The listening sessions will be held at 210 Holiday Court, Annapolis, Maryland 21401, on March 18 and April 29, 2011, at 7 p.m. EST. Any additional listening sessions that are scheduled will be published in a forthcoming Federal Register document. If you would prefer to provide written comments, EPA is asking for comments or relevant information from the interested public to be submitted to the docket on or before June 2, 2011.

ADDRESSES: Submit your statements or input, identified by Docket ID No. EPA-HQ-OW-2011-0119 by one of the following methods:

• http://www.regulations.gov: Follow the on-line instructions for submitting comments.

• E-mail: ow-docket@epa.gov. Attention Docket ID No. EPA-HQ-OW-2011-0119.

• Mail: Water Docket, Environmental Protection Agency, Mail Code: 2822-1T, 1200 Pennsylvania Ave., NW., Washington, DC 20460, Attention Docket ID No. EPA-HQ-OW-2011-0119.

• Hand Delivery: Water Docket, EPA Docket Center, EPA West Building Room 3334, 1301 Constitution Ave., NW., Washington, DC 20460, ID No. EPA-HQ-OW-2011-0119. Such deliveries are only accepted during the Docket's normal hours of operation (see below), and special arrangements should be made for deliveries of boxed information.

Instructions: Direct your comments to Docket ID No. EPA-HQ-OW-2011-0119. EPA's policy is that all comments received will be included in the public docket without change and may be made available online at http://www.regulations.gov, including any personal information provided, unless the comment includes information claimed to be Confidential Business Information (CBI) or other information whose disclosure is restricted by statute. Do not submit information that you consider to be CBI (or otherwise protected) through http://www.regulations.gov or e-mail. The http://www.regulations.gov Web site is an “anonymous access” system, which means EPA will not know your identity or contact information unless you provide it in the body of your comment.

If you send an e-mail comment directly to EPA without going through http://www.regulations.gov, your e-mail address will be automatically captured and included as part of the comment that is placed in the public docket and made available on the Internet. If you submit an electronic comment, EPA recommends that you include your name and other contact information in the body of your comment, as well as with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Water Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Water Docket is (202) 566-2426.

Public Listening Session: EPA intends to hold public listening sessions to provide information to and gather information from the public to assist EPA in the development of regulations for recreational vessels. Written and oral statements will be accepted at the public listening sessions. Input generated from the public listening sessions will be compiled and archived in Docket ID No. EPA-HQ-OW-2011-0119, found at http://www.regulations.gov. The public listening session will include an EPA discussion of the background of the CBA, a discussion of the intent of the proposed regulation, and EPA's general approach to the regulatory process.

FOR FURTHER INFORMATION CONTACT: For further information about the CBA or on the listening sessions, contact Brian Rappoli at 202-566-1548, or e-mail cleanboatingact-hq@epa.gov.

SUPPLEMENTARY INFORMATION:

I. General Information

A. Does this action apply to me?

Today's document does not contain or establish any regulatory requirements. Rather, it announces public listening sessions and seeks public input for use in developing proposed regulations under the CWA Section 312(o).

Today's document will be of interest to the general public, State regulatory agencies, other Federal agencies, environmental groups, and owners or operators of recreational vessels.

B. What should I consider as I prepare my comments for EPA?

1. Submitting CBI. Do not submit this information to EPA through http://www.regulations.gov or e-mail. Clearly mark the part or all of the information that you claim to be CBI. For CBI information on a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the document by docket number and other identifying information (subject heading, Federal Register date, and page number).

• Follow directions.

• Describe any assumptions and provide any technical information and/or data that you used.

• Provide specific examples to illustrate your concerns and suggest alternatives.

• Explain your views as clearly as possible and provide reasons to support your views.

Make sure to submit your comments by the comment period deadline identified. You may submit your comments electronically, by mail, through hand delivery/courier, or in person by attending the public listening sessions being held on March 18 and April 22, 2011.

II. Background

The potential environmental impacts from discharges incidental to the normal operation of recreational vessels are broad. Recreational boating activities can introduce non-indigenous invasive species to new aquatic environments through the discharge of encrusting organisms from boat hulls, boat trailers, fishing gear, and through water retained by live wells and fishing buckets, recreational gear, ballast water, and bilge water. Boating activities can also introduce toxic chemicals and other pollutants. For example, graywater discharges from the vessel galley, sinks, or showers can contribute to eutrophication, enhanced turbidity, and introduce pathogenic organisms to the surrounding water. Coatings used to deter organism growth on vessel hulls can release heavy metals and/or other biocides, which can lead to acute or chronic toxicity in non-targeted organisms. Bilgewater can contain oils, dissolved heavy metals, and other chemical constituents that can result in toxic effects on aquatic organisms, contribute to eutrophication, and have negative aesthetic impacts.

The CBA creates a new section 402(r) of the CWA to exclude recreational vessels from National Pollutant Discharge Elimination System permitting requirements. In addition, it adds a new CWA section 312(o) directing EPA to develop regulations that identify the discharges incidental to the normal operation of recreational vessels (other than a discharge of sewage), for which it is reasonable and practicable to develop management practices to mitigate adverse impacts on waters of the United States. Those regulations need to include management practices, as well as performance standards for each such practice. Following promulgation of the EPA performance standards, new CWA section 312(o) directs the United States Coast Guard (USCG) to promulgate regulations governing the design, construction, installation, and use of the management practices. Following promulgation of the USCG regulations, new CWA section 312(o)(6) prohibits the operation of a recreational vessel or any discharge incidental to their normal operation in waters of the United States and waters of the contiguous zone (i.e., 12 miles into the ocean), unless the vessel owner or operator is using an applicable management practice meeting the EPA-developed performance standards.

To be successful, the management practices and performance standards to be developed under the Act will need to be technically effective in reducing or controlling discharges, but also will need to be readily implemented by the recreational boat owner.

To help the public prepare for the listening session, the following background information is provided. Please note that the information presented in this section is in summary form; for more detail, please refer to the information available at http://water.epa.gov/lawsregs/lawsguidance/cwa/vessel/CBA/about.cfm.

A. Why is EPA developing proposed regulations for operational discharges from recreational vessels?

In July of 2008, Congress passed the Clean Boating Act of 2008 (Pub. L. 110-288). The CBA directs EPA to promulgate regulations to establish management practices and associated standards of performance for discharges incidental to the normal operation of recreational vessels.

B. What vessels are subject to the CBA?

The CBA defines recreational vessels as vessels: (1) Manufactured primarily for pleasure, (2) used primarily for pleasure, or (3) vessels leased, rented, or chartered for pleasure (CWA section 502(25)). The definition specifically excludes vessels that are subject to USCG inspection and either engaged in commercial use or carry paying passengers. EPA anticipates that the proposed regulation will apply to recreational vessels including, but not limited to: personal watercraft, canoes, kayaks, recreational fishing boats, sail boats, ski boats, power boats and large yachts.

C. What are “Management Practices” (MPs) and who will they apply to?

EPA anticipates the proposed regulation will consist of a number of MPs that will describe practices to reduce environmental pollution from recreational vessels. Each vessel owner/operator would be responsible for implementing the MPs applicable to the types of discharges their vessel creates. The owner/operator is not responsible for those MPs for discharges that their vessel does not create (for example, a sailboat owner is not responsible for the engine maintenance MPs if the sailboat does not have an engine).

D. If I own a recreational vessel, what will I need to do?

At this time, we are only seeking public input to assist us in developing the regulations. Under the CBA, the regulations are to be developed in three phases: Phase 1, EPA develops MPs for incidental discharges from recreational vessels; Phase 2, EPA develops performance standards for the MPs; and Phase 3, USCG develops regulations requiring use of the MPs. Following promulgation of the USCG Phase 3 regulations, discharges incidental to the normal operation of recreational vessels into waters of the United States or the contiguous zone that are not in accordance with the management practices and performance standards will be prohibited. Violations of the CWA section 312(o) regulations will be subject to fines under the CWA.

E. When will this regulation be enforced and who will be enforcing it?

The regulations will be enforceable upon finalization of the Phase 3 regulations by the USCG. The USCG will be the Federal agency enforcing MPs and performance standards. Relevant State agencies can, at their discretion, also enforce these practices and standards under CWA section 312(j) and 312(k).

III. Request for Public Input and Comment

Today's document is being issued to inform the public that EPA is in the process of developing regulations under the CWA section 312(o) and to solicit input from the public. EPA is accepting information during the listening sessions scheduled for March 18 and April 29, 2011, and/or by submission of written comments or relevant information to gain early public input on development of the MPs. Additionally, EPA will be conducting a series of weekly “webinars” to facilitate public participation. More information about the webinar series can be found at http://water.epa.gov/lawsregs/lawsguidance/cwa/vessel/CBA/. EPA is also seeking input from the public on whether to hold additional listening sessions in other locations (e.g., Gulf of Mexico, Great Lakes region, and West Coast).

In addition to requesting recommendations for MPs that should be considered for inclusion in the forthcoming proposed rule, EPA is specifically requesting comment on the following:

(1) Are there any guidances, supporting documentation, or communication strategies that you would recommend EPA develop to help vessel owner/operators better understand and comply with the MPs being developed by EPA? If so, please suggest your approaches.

(2) Are there specific discharges (e.g., ballast water) or broad categories of discharges (e.g., oily wastes) for which EPA should consider developing MPs?

(3) Are there specific effluent limitations or best management practices that EPA should consider incorporating into the forthcoming regulations? If so, please provide the recommendation and any supporting information.

(4) Are there relevant Federal, State, or international permits, rules, or guidances EPA should consider using to inform decisions being made for the CWA section 312(o)? If so, please identify the specific sections of the permits, rules, or guidances you believe EPA should consider.

Dated: February 24, 2011.
Denise Keehner,
Director, Office of Wetlands, Oceans and Watersheds.

[FR Doc. 2011-4989 Filed 3-3-11; 8:45 am]

BILLING CODE 6560-50-P